DEPARTMENT OF HEALTH AND HUMAN SERVICES

Office of the Secretary

Findings of Misconduct in Science/Research Misconduct

AGENCY: Office of the Secretary, HHS.

ACTION: Notice.

SUMMARY: Notice is hereby given that on May 16, 2011, the Department of Health and Human Services (HHS) Debarring Official, on behalf of the Secretary of HHS, issued a final notice of debarment based on the misconduct in science and research misconduct findings of the Office of Research Integrity (ORI) in the following case:

Philippe Bois, Ph.D., St. Jude Children's Research Hospital: Based on the findings of an investigation report by St. Jude Children's Research Hospital (St. Jude) and additional analysis conducted by ORI during its oversight review, ORI found that Philippe Bois, Ph.D., former postdoctoral fellow, Department of Biochemistry, St. Jude, engaged in misconduct in science and research misconduct in research funded by National Institute of General Medical Sciences (NIGMS), National Institutes of Health (NIH), grant R01 GM071596, and National Cancer Institute (NCI), NIH, grants P30 CA021765, P01 CA071907, R01 CA072996, and R01 CA100603.

ORI found that the Respondent knowingly and intentionally falsified data reported in two (2) papers:

1. Bois, P.R., Izeradjene, K., Houghton, P.J., Cleveland, J.L., Houghton, J.A., & Grosveld, C.G. “FOXO1a acts as a selective tumor suppressor in alveolar rhabdomyosarcoma.” J. Cell. Biol. 170:903-912, September 2005 (hereafter referred to as “JCB 2005”); and

2. Bois, P.R., Borgon, R.A., Vornhein, C., & Izard, T. “Structural dynamics of α-actinin-vinculin interactions.” Mol. Cell. Biol. 25:6112-6122, July 2005 (hereafter referred to as “MCB 2005”).

Specifically, ORI found:

• Respondent committed misconduct in science and research misconduct by knowingly and intentionally falsely reporting in Figure 1A of JCB 2005 that FOXO1a was not expressed in cell lysates from alveolar rhabdomyosarcoma (ARMS) tumor biopsies, by selecting a specific FOXO1a immunoblot to show the desired result.

• Respondent engaged in misconduct in science and research misconduct by falsifying data presented in Figure 4B of MCB 2005 showing SDS-PAGE for papain digestion of VBS3 and αVBS, by falsely labeling lane 1 to represent papain only digestion, by falsely labeling lane 5 to represent papain digestion of the αVBS peptide, and by falsely inserting a band in lane 3 to represent the αVBS peptide.

ORI issued a charge letter enumerating the above findings of misconduct in science and proposing HHS administrative actions. Dr. Bois subsequently requested a hearing before an Administrative Law Judge (ALJ) of the Departmental Appeals Board (DAB) to dispute these findings. ORI moved to dismiss Dr. Bois' hearing request. On May 16, 2011, the ALJ of the DAB ruled in ORI's favor and dismissed Dr. Bois' hearing request. The ALJ found that Dr. Bois had not raised a genuine dispute over facts or law material to the findings of research misconduct and dismissed the hearing request pursuant to 42 CFR 93.504(a)(2), (3).

Thus, the misconduct in science and research misconduct findings set forth above became effective, and the following administrative actions have been implemented for a period of three (3) years, beginning on May 26, 2011:

(1) Dr. Bois is debarred from eligibility for any contracting or subcontracting with any agency of the United States Government and from eligibility for, or involvement in, nonprocurement programs of the United States Government, referred to as “covered transactions,” pursuant to HHS' Implementation of OMB Guidelines to Agencies on Governmentwide Debarment and Suspension (2 CFR 376 et seq.); and

(2) Dr. Bois is prohibited from serving in any advisory capacity to the U.S. Public Health Service (PHS), including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2011-14273 Filed 6-8-11; 8:45 am]

BILLING CODE 4150-31-P